DEPARTMENT OF THE TREASURY

Submission for OMB Review; Comment Request

August 8, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 14, 2001 to be assured of consideration.

Internal Revenue Service

OMB Number: 1545-1397.

Form Number: IRS Form 8453-OL.

Type of Review: Extension.

Title: U.S. Individual Income Tax Declaration for an IRS e-file On-Line Return.

Description: This form is used to secure taxpayer signatures and declarations in conjunction with the On-Line Electronic Filing program. This form, together with the electronic transmission, comprises the taxpayer's return.

Respondents: Individuals or households.

Estimated Number of Respondents/Recordkeepers: 50,000.

Estimated Burden Hours Per Respondent/Recordkeeper: 15 minutes.

Frequency of Response: Annually.

Estimated Total Reporting/Recordkeeping Burden: 12,500 hours.

Clearance Officer: Garrick Shear, Internal Revenue Service, Room 5244, 1111 Constitution Avenue, NW., Washington, DC 20224

OMB Reviewer: Alexander T. Hunt, (202) 395-7860, Office of Management and Budget, Room 10202, New Executive Office Building, Washington, DC 20503

Lois K. Holland,
Departmental Reports Management Officer.

[FR Doc. 01-20442 Filed 8-14-01; 8:45 am]

BILLING CODE 4830-01-P